CONSUMER PRODUCT SAFETY COMMISSION

Agency Information Collection Activities; Announcement of Office of Management and Budget Approval; Publicly Available Consumer Product Safety Information Database

AGENCY: Consumer Product Safety Commission.

ACTION: Notice.

SUMMARY: The Consumer Product Safety Commission (Commission) is announcing that a collection of information entitled Publicly Available Consumer Product Safety Information Database has been approved by the Office of Management and Budget (OMB) under the Paperwork Reduction Act of 1995.

FOR FURTHER INFORMATION CONTACT: Linda Glatz, Division of Policy and Planning, Office of Information Technology and Technology Services, Consumer Product Safety Commission, 4330 East West Highway, Bethesda, MD 20814; telephone: (301) 504-7671 or by e-mail to lglatz@cpsc.gov.

SUPPLEMENTARY INFORMATION: In the Federal Register of May 24, 2010, 75 FR 29156, the agency announced that the proposed information collection had been submitted to OMB for review and clearance under 44 U.S.C. 3501-3520. A final rule was published in the Federal Register of December 9, 2010, 75 FR 76832. An agency may not conduct or sponsor, and a person is not required to respond to, a collection of information unless it displays a currently valid OMB control number. OMB has now approved the information collection and has assigned OMB control number 3041-0146. The approval expires on January 31, 2014. A copy of the supporting statement for this information collection is available on the Internet at http://www.reginfo.gov/public/do/PRAMain.

Todd A. Stevenson,
Secretary, Consumer Product Safety Commission.

[FR Doc. 2011-6645 Filed 3-21-11; 8:45 am]

BILLING CODE 6355-01-P